DEPARTMENT OF AGRICULTURE

DEPARTMENT OF HEALTH AND HUMAN SERVICES

Announcement of Intent To Establish the 2020 Dietary Guidelines Advisory Committee and Solicitation of Nominations for Membership

AGENCY: Office of the Assistant Secretary for Health, U.S. Department of Agriculture (USDA), Food, Nutrition and Consumer Services (FNCS) and Research, Education and Economics (REE); and U.S. Department of Health and Human Services (HHS).

ACTION: Notice.

SUMMARY: The Departments of Agriculture and Health and Human Services announce the intent to establish a Dietary Guidelines Advisory Committee and invite nominations for the Committee.

DATES: Nominations must be submitted by midnight Eastern Time on October 9, 2018.

ADDRESSES: Nominations may be submitted by electronic mail to dietaryguidelines@cnpp.usda.gov. This address can be accessed through the internet at the following website address: www.dietaryguidelines.gov. Alternatively, nominations may be sent to: Dietary Guidelines Advisory Committee Nominations, Center for Nutrition Policy and Promotion, U.S. Department of Agriculture, 3101 Park Center Drive, Room 1034, Alexandria, VA 22302, (703) 305-7600 (telephone), (703) 305-3300 (fax).

FOR FURTHER INFORMATION CONTACT: Eve Stoody (telephone 703-305-7600), Center for Nutrition Policy and Promotion, 3101 Park Center Drive, Room 1034, Alexandria, Virginia 22302, or, Richard Olson (telephone 240-453-8280), Office of Disease Prevention and Health Promotion, 1101 Wootton Parkway, Suite LL100, Rockville, Maryland 20852. Additional information is available on the internet at www.dietaryguidelines.gov.

SUPPLEMENTARY INFORMATION: Authority and Purpose: Under Section 301 of Public Law 101-445 (7 U.S.C. 5341, the National Nutrition Monitoring and Related Research Act of 1990, Title III) the Secretaries of the U.S. Departments of Agriculture (USDA) and Health and Human Services (HHS) are directed to publish the Dietary Guidelines for Americans jointly at least every five years. The law instructs that this publication shall contain nutritional and dietary information and guidelines for the general public, shall be based on the preponderance of scientific and medical knowledge current at the time of publication, and shall be promoted by each Federal agency in carrying out any Federal food, nutrition, or health program. Recent editions of the Dietary Guidelines provide dietary advice for Americans ages 2 years and older. The Agricultural Act of 2014 mandates the addition of dietary guidance for women who are pregnant and infants and toddlers from birth to 24 months of age beginning with the 2020 edition.

The 2020 Dietary Guidelines Advisory Committee (the Committee) shall be formed and governed under the provisions of the Federal Advisory Committee Act (FACA), Public Law 92-463, as amended (5 U.S.C., App), which sets forth standards for the formation and use of advisory committees. The Committee is established to provide independent, science-based advice and recommendations to be considered by USDA and HHS in the development of the 2020-2025 Dietary Guidelines for Americans. Formation of the Committee is necessary and in the public interest.

The Committee is expected to begin meeting during the Fall/Winter of 2018/2019; the Committee will meet approximately five times during the course of its operation. Pursuant to the FACA, all Committee meetings will be open to the public. The Committee will be established to accomplish a single, time-limited task. The Committee will develop a report of its recommendations that will be submitted to the Secretaries of USDA and HHS. Upon delivery of its report to the Secretaries or when the charter expires, the activities of the Committee will be terminated.

Structure: The Committee will consist of 13 to 20 members, including the Chair and Vice-Chairperson. Factors to be considered in selecting individuals to serve on the Committee include educational background, professional experience, and demonstrated scientific expertise in the issues to be examined by the Committee, as well as statutory obligations under FACA and requirements regarding a balanced membership.

Expertise in human nutrition related to disease prevention and health promotion during different stages of life, such as pediatrics, obstetrics, and geriatrics, will be sought. Expertise in the topics and scientific questions identified by the Departments to be examined by the Committee also will be sought. Information on the topics and scientific questions is available at www.dietaryguidelines.gov.

Equal opportunity practices regarding membership appointments to the Committee will be aligned with USDA and HHS policies. To ensure that recommendations of the Committee take into account the needs of the diverse groups served by USDA and HHS, membership shall include, to the extent practicable, individuals who are minorities, women, and persons with disabilities.

Individuals will be appointed to serve as members of the Committee to represent balanced viewpoints of the scientific evidence, not to represent the viewpoints of any specific group.

Members of the Committee will be classified as Special Government Employees (SGEs) during their term of appointment on the Committee and, as such, are subject to the ethical standards of conduct for Federal employees. Upon entering the position and annually throughout the approximate 2-year term of appointment, members of the Committee will be required to complete and submit a report of their financial holdings.

Nominations and Appointments for Memberships: Nominees, including self-nominees, will be considered for appointment as members of the Committee. To be considered for an appointment requires submission of the following for each nominee: (1) A cover letter that clearly states the name and affiliation of the nominee, the rationale for the nomination (i.e., specific attributes which qualify the nominee for service in this capacity), and a statement that the nominee would be willing to serve as a member of the Committee, if selected; (2) the name, address, telephone number, and electronic mail address of the nominator and the individual being nominated; (3) a copy of the nominee's curriculum vitae, which should be limited to no more than 15 pages; and (4) the following administrative form: AD-755 (Advisory Committee Membership Background Information, OMB Number 0505-0001), available on the internet at: https://www.ocio.usda.gov/document/ad-755. Where prohibited by Federal law or regulations, nominations will not be accepted directly from USDA research and promotion boards. Self-nominations and nominations by members of research and promotion boards in their individual capacity will be considered.

The curriculum vitae should include the following information: (a) Education; (b) experience (current and former); (c) affiliations (food, nutrition, public health, and/or other relevant associations, including positions held); (d) memberships (expert panels, committees, or other relevant groups, including positions held); (e) peer-reviewed publications (for past 10 years); (f) oral presentations (for past 5 years); (g) editorials, opinion pieces, and blogs (for past 5 years); (h) grant funding (for past 15 years); (i) name of any corporation, professional society, association, panel, company, firm, government agency (Federal, state, and local), research organization, educational institution, or other organization or institution (government, private, and not-for-profit; domestic and foreign) in which the nominee's services have been, will be, or are expected to be provided, with or without compensation, including on a part-time or seasonal basis as an officer, medical staff, board member, owner, trustee, director, expert advisor, consultant, official spokesperson, member of speakers bureau, or expert witness (for past 5 years and upcoming); (j) other paid travel or honoraria received, not included above (for past 5 years). Web links to publications, presentations, and other materials available online are requested, when available. In all cases, a limited selection of earlier publications, presentations, affiliations, etc. applicable to the qualifications may also be included.

Dated: August 28, 2018.
Brandon Lipps,
Acting Deputy Under Secretary, Food, Nutrition, and Consumer Services, U.S. Department of Agriculture.
Dated: August 28, 2018.
Dated: August 29, 2018.
Brett P. Giroir,
Admiral, U.S. Public Health Service, Assistant Secretary for Health, Office of the Assistant Secretary for Health, U.S. Department of Health and Human Services.
Chavonda Jacobs-Young,
Acting Deputy Under Secretary, Research, Education, and Economics, U.S. Department of Agriculture.

[FR Doc. 2018-19302 Filed 9-5-18; 8:45 am]

BILLING CODE 3410-30-P